DEPARTMENT OF TRANSPORTATION

Office of the Secretary

Notice of Application for Certificates of Public Convenience and Necessity

Notice of Applications for Certificates of Public Convenience and Necessity and Foreign Air Carrier Permits Filed Under Subpart B (formerly Subpart Q) during the week ending July 6, 2001. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-10052.

Date Filed: July 3, 2001.

Due Date for Answers, Conforming Applications, or Motion to Modify Scope: July 24, 2001.

Description: Application of DHL Airways, Inc., pursuant to 49 U.S.C. 41102 and subpart B, requesting a renewal and an amendment of its certificate of public convenience and necessity for Route 725, Segments 1 through 6, to provide scheduled foreign air transportation of property and mail between points in the United States and points in Mexico.

Docket Number: OST-2001-10068.

Date Filed: July 6, 2001.

Due Date for Answers, Conforming Applications, or Motion to Modify Scope: July 27, 2001.

Description: Application of Amerijet International, Inc., pursuant to 49 U.S.C. Section 41102 and Subpart B, requesting a renewal and an amendment of its certificate of public convenience and necessity for Route 570, Segment 1 through 4, to provide scheduled foreign air transportation of property and mail between points in the United States and points in Mexico for a five-year period. Amerijet also requests that its certificate authority be amended to include the terminal point Fort Lauderdale, in addition to, or as an alternative to Miami.

Dorothy Y. Beard,
Federal Register Liaison.

[FR Doc. 01-18114 Filed 7-18-01; 8:45 am]

BILLING CODE 4910-62-P